DEPARTMENT OF TRANSPORTATION

Federal Aviation Administration

14 CFR Part 39

[Docket No. FAA-2017-0474; Directorate Identifier 2016-NM-096-AD]

RIN 2120-AA64

Airworthiness Directives; Bombardier, Inc. (Type Certificate Previously Held by Canadair Limited) Airplanes

AGENCY: Federal Aviation Administration (FAA), DOT.

ACTION: Notice of proposed rulemaking (NPRM).

SUMMARY: We propose to supersede Airworthiness Directive (AD) 2011-03-08, for certain Bombardier, Inc., Model CL-215-1A10 (CL-215), CL-215-6B11 (CL-215T Variant), and CL-215-6B11 (CL-415 Variant) airplanes. AD 2011-03-08 currently requires an inspection to determine the number of flight cycles accumulated by certain accumulators installed on the airplane, and repetitive inspections of the accumulators for cracks and replacement if necessary. Since we issued AD 2011-03-08, we determined that a terminating action is necessary to address the identified unsafe condition. This proposed AD would add a requirement for the terminating action. We are proposing this AD to address the unsafe condition on these products.

DATES: We must receive comments on this proposed AD by July 3, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0474; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Cesar A. Gomez, Aerospace Engineer, Airframe and Mechanical Systems Branch, ANE-171, FAA, New York Aircraft Certification Office (ACO), 1600 Stewart Avenue, Suite 410, Westbury, NY 11590; telephone 516-228-7318; fax 516-794-5531.

SUPPLEMENTARY INFORMATION:

Comments Invited

We invite you to send any written relevant data, views, or arguments about this proposed AD. Send your comments to an address listed under the ADDRESSES section. Include “Docket No. FAA-2017-0474; Directorate Identifier 2016-NM-096-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 26, 2011, we issued AD 2011-03-08, Amendment 39-16592 (76 FR 6536, February 7, 2011) (“AD 2011-03-08”), for certain Bombardier, Inc., Model CL-215-1A10 (CL-215), CL-215-6B11 (CL-215T Variant), and CL-215-6B11 (CL-415 Variant) airplanes. AD 2011-03-08 was prompted by reports of seven cases of on-ground hydraulic accumulator screw cap or end cap failure, which have resulted in loss of the associated hydraulic system and high-energy impact damage to adjacent systems and structure. AD 2011-03-08 requires an inspection to determine the number of flight cycles accumulated by applicable accumulators (i.e., brake, aileron, elevator, and rudder accumulators) installed on the airplane. AD 2011-03-08 also requires repetitive ultrasonic inspections of the accumulators for cracks and replacement of any accumulator in which a crack is detected. We issued AD 2011-03-08 to detect and correct cracking of the accumulator, which could result in loss of the associated hydraulic system and high-energy impact damage to adjacent systems and structure, potentially resulting in fuel spillage, uncommanded flap movement, or loss of aileron control.

Since we issued AD 2011-03-08, terminating action for the repetitive inspections has been developed. We have determined that a terminating action (relocation of the affected accumulators, and incorporation of new airworthiness limitations) is necessary to address the identified unsafe condition.

Transport Canada Civil Aviation (TCCA), which is the aviation authority for Canada, has issued Canadian Airworthiness Directive CF-2009-42R2, dated June 13, 2016 (referred to after this as the Mandatory Continuing Airworthiness Information, or “the MCAI”), to correct an unsafe condition for certain Bombardier, Inc., Model CL-215-1A10 (CL-215), CL-215-6B11 (CL-215T Variant), and CL-215-6B11 (CL-415 Variant) airplanes. The MCAI states:

Seven cases of on-ground hydraulic accumulator screw cap or end cap failure have been experienced on CL-600-2B19 (CRJ) aeroplane, resulting in loss of the associated hydraulic system and high-energy impact damage to adjacent systems and structure. To date, the lowest number of flight cycles accumulated at the time of failure has been 6991.

Although there have been no failures to date on any CL-215-1A10 (CL-215) or CL-215-6B11 (CL-215T and CL-415) aeroplane, similar accumulators, Part Number (P/N) 08-8423-010 (MS28700-3), to those installed on the CL-600-2B19, are installed on the aeroplane models listed in the Applicability section of this [Canadian] AD.

A detailed analysis of the systems and structure in the potential line of trajectory of a failed screw cap/end cap for each accumulator has been conducted. It has identified that the worst-case scenarios would be impact damage to various components, potentially resulting in fuel spillage, uncommanded flap movement, or loss of aileron control.

This [Canadian] AD mandates repetitive [ultrasonic] inspections of the accumulators for cracks and replacement of any accumulator in which a crack is detected.

Revision 1 of this [Canadian] AD clarified the text of the [Canadian] AD, including the P/N of the affected accumulators.

This revision provides the terminating action [relocation of the affected accumulators, and incorporating new airworthiness limitations] to this [Canadian] AD. It also modifies the applicability range for the CL-215-1A10 (CL-215); the CL-215 is out of production and the last aeroplane produced was serial number 1125.

You may examine the MCAI in the AD docket on the Internet at http://www.regulations.gov by searching for and locating Docket No. FAA-2017-0474.

Related Service Information Under 1 CFR Part 51

We reviewed the following Bombardier, Inc., service information:

• Bombardier Canadair 215 Service Bulletin 215-552, Revision 2, dated June 18, 2015. This service information describes procedures to relocate the aileron hydraulic accumulator aft of its current location.

• Bombardier Canadair 215T Service Bulletin 215-3158, Revision 2, dated April 15, 2014; and Bombardier 415 Service Bulletin 215-4423, Revision 5, dated March 17, 2016. These documents are distinct since they apply to different airplane models. This service information describes procedures to relocate the aileron, elevator, and rudder hydraulic accumulators aft and outboard of their current locations.

• Bombardier Canadair 215 Service Bulletin 215-557, Revision 1, dated June 27, 2014; Bombardier Canadair 215T Service Bulletin 215-3182, Revision 1, dated June 27, 2014; and Bombardier 415 Service Bulletin 215-4470, Revision 1, dated June 27, 2014. These documents are distinct since they apply to different airplane models. This service information provides procedures to establish the number of flight hours for each accumulator and determine if it has been used on another type of aircraft.

• Bombardier Model CL-215-1A10 (CL-215), Time Limits/Maintenance Checks (TLMC) Manual PSP 295, TR 295-7, dated December 13, 2013; Bombardier Model CL-215-6B11 (CL-215T), TLMC Manual PSP 395, TR LLC-3, dated December 13, 2013; Bombardier Model CL-215-6B11 (CL-215T), TLMC Manual PSP 395-1, TR LLC-1, dated December 13, 2013; and Bombardier Model CL-600-6B11 (CL-415), TLMC Manual PSP 495, TR 5-56, dated December 13, 2013. These documents are distinct since they apply to different airplane models. This service information provides a 10,000-hour accumulator life limitation for certain accumulators.

This service information is reasonably available because the interested parties have access to it through their normal course of business or by the means identified in the ADDRESSES.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 7 airplanes of U.S. registry.

We estimate the following costs to comply with this proposed AD:

Estimated Costs
Action | Labor cost | Parts cost | Cost per product | Cost on U.S. operators
Ultrasonic inspection [retained action from AD 2011-03-08] | 7 work-hours × $85 per hour = $595 | $0 | $595 | $4,165
Relocation, determination of accumulator hours and usage, and maintenance or inspection program revision [new proposed action] | 56 work-hours × $85 per hour = $4,760 | 0 | 4,760 | 33,320

We estimate the following costs to do any necessary replacement that would be required based on the results of the proposed inspection. We have no way of determining the number of airplanes that might need this replacement.

On-Condition Costs
Action | Labor cost | Parts cost | Cost per product
Replacement of cracked part [retained actions from AD 2011-03-08] | 6 work-hours × $85 per hour = $510 | $4,055 | $4,565

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-03-08, Amendment 39-16592 (76 FR 6536, February 7, 2011) (“AD 2011-03-08”), and adding the following new AD:

Bombardier, Inc. (Type Certificate Previously Held by Canadair Limited): Docket No. FAA-2017-0474; Directorate Identifier 2016-NM-096-AD.

(a) Comments Due Date

We must receive comments by July 3, 2017.

(b) Affected ADs

This AD replaces AD 2011-03-08, Amendment 39-16592 (76 FR 6536, February 7, 2011) (“AD 2011-03-08”).

(c) Applicability

This AD applies to Bombardier, Inc. (Type Certificate previously held by Canadair Limited) airplanes, certificated in any category, identified in paragraphs (c)(1) through (c)(3) of this AD.

(1) Model CL-215-1A10 (CL-215) airplanes, serial numbers 1001 through 1125 inclusive.

(2) Model CL-215-6B11 (CL-215T) airplanes, serial numbers 1056 through 1125 inclusive.

(3) Model CL-215-6B11 (CL-415) airplanes, serial numbers 2001 through 2990 inclusive.

(d) Subject

Air Transport Association (ATA) of America Code 29, Hydraulic power.

(e) Reason

This AD was prompted by reports of on-ground hydraulic accumulator screw cap or end cap failure resulting in a loss of the associated hydraulic system and high-energy impact damage to adjacent systems and structure. We are issuing this AD to prevent failure of the screw cap or end cap, which could result in impact damage to various components, potentially resulting in fuel spillage, uncommanded flap movement, or loss of aileron control.

(f) Compliance

Comply with this AD within the compliance times specified, unless already done.

(g) Retained Inspection To Determine Flight Cycles, With No Changes

This paragraph restates the requirements of paragraph (g) of AD 2011-03-08, with no changes. Within 50 flight hours after March 14, 2011 (the effective date of AD 2011-03-08), inspect to determine the number of flight cycles accumulated by each of the applicable accumulators (i.e., brake, aileron, elevator, and rudder accumulators) having part number 08-8423-010 (MS28700-3) installed on the airplane. A review of airplane maintenance records is acceptable in lieu of this inspection if the number of flight cycles accumulated can be conclusively determined from that review.

(h) Retained Initial Ultrasonic Inspection for Model CL-215-1A10 (CL-215) and CL-215-6B11 (CL-215T) Airplanes, With No Changes

This paragraph restates the requirements of paragraph (h) of AD 2011-03-08, with no changes. For Model CL-215-1A10 (CL-215) and CL-215-6B11 (CL-215T) airplanes: Do an ultrasonic inspection for cracking of the accumulator at the applicable time specified in paragraph (h)(1) or (h)(2) of this AD, in accordance with Part B of the Accomplishment Instructions of the applicable service bulletin listed in table 1 to paragraphs (h), (i), and (k) of this AD.

Table 1 to Paragraphs (h), (i), and (k) of This AD—Service Bulletins
For model— | Use Bombardier service bulletin—
CL-215-1A10 (CL-215) | 215-541, Revision 1, dated March 12, 2010.
CL-215-6B11 (CL-215T) | 215-3155, Revision 1, dated March 12, 2010.
CL-215-6B11 (CL-415) | 215-4414, Revision 1, dated March 12, 2010.

(1) For any accumulator on which the inspection required by paragraph (g) of this AD shows an accumulation of more than 875 total flight cycles, or on which it is not possible to determine the number of total accumulated flight cycles, do the inspection within 125 flight cycles after March 14, 2011 (the effective date of AD 2011-03-08).

(2) For any accumulator on which the inspection required by paragraph (g) of this AD shows an accumulation of 875 total flight cycles, or fewer, do the inspection before the accumulation of 1,000 flight cycles on the accumulator.

(i) Retained Initial Ultrasonic Inspection for Model CL-215-6B11 (CL-415) Airplanes, With No Changes

This paragraph restates the requirements of paragraph (i) of AD 2011-03-08, with no changes. For Model CL-215-6B11 (CL-415) airplanes, do an ultrasonic inspection for cracking of the accumulator at the applicable time specified in paragraph (i)(1) or (i)(2) of this AD, in accordance with Part B of the Accomplishment Instructions of the applicable service bulletin listed in table 1 to paragraphs (h), (i), and (k) of this AD.

(1) For any accumulator on which the inspection required by paragraph (g) of this AD shows an accumulation of more than 750 flight cycles, or on which it is not possible to determine the number of total accumulated flight cycles, do the inspection within 250 flight cycles after March 14, 2011 (the effective date of AD 2011-03-08).

(2) For any accumulator on which the inspection required by paragraph (g) of this AD shows an accumulation of 750 total flight cycles, or fewer, do the inspection before the accumulation of 1,000 total flight cycles on the accumulator.

(j) Retained Repetitive Inspections, With New Terminating Action

This paragraph restates the requirements of paragraph (j) of AD 2011-03-08, with new terminating action. If no cracking is found during any inspection required by paragraph (h) or (i) of this AD, repeat the inspection thereafter at intervals not to exceed 750 flight cycles until the actions required by paragraphs (n), (o), and (p) of this AD have been done.

(k) Retained Replacement of Cracked Accumulators and Repetitive Inspections, With New Terminating Action

If any cracking is found during any inspection required by paragraph (h) or (i) of this AD, before further flight, replace the accumulator with a serviceable accumulator, in accordance with Part B of the Accomplishment Instructions of the applicable Bombardier service bulletin listed in table 1 to paragraphs (h), (i), and (k) of this AD. Doing the replacement does not end the inspection requirements of paragraphs (h) and (i) of this AD. Repeat the inspections required by paragraph (h) or (i) of this AD, as applicable, at intervals not to exceed 750 flight cycles until the actions required by paragraphs (n), (o), and (p) of this AD have been done.

(l) Retained Parts Installation Limitation, With Revised Compliance Language

This paragraph restates the parts installation limitation in paragraph (l) of AD 2011-03-08, with revised compliance language. As of March 14, 2011 (the effective date of AD 2011-03-08), no person may install an accumulator, part number 08-8423-010 (MS28700-3), on any airplane unless the accumulator has been inspected in accordance with the requirements of paragraph (h) or (i) of this AD.

(m) Retained Credit for Previous Actions, With No Changes

This paragraph restates the credit provided in paragraph (m) of AD 2011-03-08, with no changes. Inspections accomplished before March 14, 2011 (the effective date of AD 2011-03-08), in accordance with the applicable service bulletin listed in table 2 to paragraph (m) of this AD are considered acceptable for compliance with the corresponding action specified in paragraph (h), (i), (j), or (k) of this AD.

Table 2 to Paragraph (m) of This AD—Credit Service Bulletins
For model— | Use Bombardier service bulletin—
CL-215-1A10 (CL-215) | 215-541, dated July 9, 2009.
CL-215-6B11 (CL-215T) | 215-3155, July 9, 2009.
CL-600-6B11 (CL-415) | 215-4414, July 9, 2009.

(n) New Relocation of Affected Accumulators

Within 12 months after the effective date of this AD, relocate affected hydraulic accumulators, in accordance with the Accomplishment Instructions of the applicable Bombardier service bulletin specified in table 3 to paragraph (n) of this AD.

Table 3 to Paragraph (n) of This AD—Service Information for Relocating Accumulators
For model— | Affected accumulators— | Use service bulletin—
CL-215-1A10 (CL-215) | Aileron, if installed | Bombardier Canadair 215 Service Bulletin 215-552, Revision 2, dated June 18, 2015.
CL-215-6B11 (CL-215T) | Aileron, Rudder, and Elevator | Bombardier Canadair 215T Service Bulletin 215-3158, Revision 2, dated April 15, 2014.
CL-215-6B11 (CL-415) | Aileron, Rudder, and Elevator | Bombardier 415 Service Bulletin 215-4423, Revision 5, dated March 17, 2016.

(o) New Establishment of Accumulator Number of Flight Hours and Determination of Previous Use of the Accumulator

Within 12 months after the effective date of this AD, establish the number of flight hours for each accumulator, and determine whether any accumulator has been used in service on another type of airplane other than Model CL-215-1A10 (CL-215), CL-215-6B11 (CL-215T Variant), and CL-215-6B11 (CL-415 Variant), in accordance with the Accomplishment Instructions in the applicable Bombardier service bulletin specified in table 4 to paragraph (o) of this AD. If any accumulator is found that has been in service on another type of airplane other than Model CL-215-1A10 (CL-215), CL-215-6B11 (CL-215T Variant), or CL-215-6B11 (CL-415 Variant), replace the accumulator within 50 flight hours after determining an affected accumulator is installed.

Table 4 to Paragraph (o) of This AD—Establishment of Accumulator Number of Flight Hours
For model— | Use service bulletin—
CL-215-1A10 (CL-215) | Bombardier Canadair 215 Service Bulletin 215-557, Revision 1, dated June 27, 2014 (Applicable to MS28700-3 accumulator).
CL-215-6B11 (CL-215T) | Bombardier Canadair 215T Service Bulletin 215-3182, Revision 1, dated June 27, 2014.
CL-215-6B11 (CL-415) | Bombardier 415 Service Bulletin 215-4470, Revision 1, dated December 13, 2013.

(p) New Airworthiness Limitations

Within 30 days after the effective date of this AD, revise the maintenance or inspection program, as applicable, to incorporate the 10,000-hour accumulator life limitation specified in the applicable Time Limits/Maintenance Checks (TLMC) Manual Temporary Revisions (TRs) listed in table 5 to paragraph (p) of this AD. The initial compliance time for accomplishing the replacement of the accumulator is within the limitation specified in the applicable TR specified in Table 5 to paragraph (p) of this AD, or within 30 days after the effective date of this AD, whichever occurs later.

Table 5 to Paragraph (p) of This AD—Airworthiness Limitations
For model— | Comply with TLMC manual— | Temporary revision (TR) number— | Dated—
CL-215-1A10 (CL-215) | PSP 295 | 295-7 | December 13, 2013.
CL-215-6B11 (CL-215T) | PSP 395 | LLC-3 | December 13, 2013.
CL-215-6B11 (CL-215T) | PSP 395-1 | LLC-1 | December 13, 2013.
CL-215-6B11 (CL-415) | PSP 495 | 5-56 | December 13, 2013.

(q) No Alternative Actions and Intervals

After accomplishment of the revision required by paragraph (p) of this AD, no alternative actions (e.g., inspections) or intervals may be used unless the actions and intervals are approved as an alternative method of compliance (AMOC) in accordance with the procedures specified in paragraph (s)(1) of this AD.

(r) Credit for Previous Actions

(1) This paragraph provides credit for actions required by paragraph (n) of this AD, if those actions were performed before the effective date of this AD using any applicable service information specified in paragraphs (r)(1)(i) through (r)(1)(ix) of this AD.

(i) Bombardier Canadair 215 Service Bulletin 215-552, dated December 16, 2013.

(ii) Bombardier Canadair 215 Service Bulletin 215-552, Revision 1, dated September 12, 2014.

(iii) Bombardier Canadair 215T Service Bulletin 215-3158, dated March 28, 2012.

(iv) Bombardier Canadair 215T Service Bulletin 215-3158, Revision 1, dated December 16, 2013.

(v) Bombardier 415 Service Bulletin 215-4423, dated April 4, 2011.

(vi) Bombardier 415 Service Bulletin 215-4423, Revision 1, dated September 28, 2011.

(vii) Bombardier 415 Service Bulletin 215-4423, Revision 2, dated May 30, 2012.

(viii) Bombardier 415 Service Bulletin 215-4423, Revision 3, dated December 16, 2013.

(ix) Bombardier 415 Service Bulletin 215-4423, Revision 4, dated December 3, 2015.

(2) This paragraph provides credit for actions required by paragraph (o) of this AD, if those actions were performed before the effective date of this AD using any applicable service information specified in paragraphs (r)(2)(i) through (r)(2)(iii) of this AD.

(i) Bombardier Canadair 215 Service Bulletin 215-557, dated December 13, 2013.

(ii) Bombardier Canadair 215T Service Bulletin 215-3182, dated December 13, 2013.

(iii) Bombardier 415 Service Bulletin 215-4470, dated December 13, 2013.

(s) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the manager of the ACO, send it to ATTN: Program Manager, Continuing Operational Safety, FAA, New York ACO, 1600 Stewart Avenue, Suite 410, Westbury, NY 11590; telephone: 516-228-7300; fax: 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(t) Related Information

(1) Refer to Mandatory Continuing Airworthiness Information (MCAI) Canadian Airworthiness Directive CF-2009-42R2, dated June 13, 2016, for related information. This MCAI may be found in the AD docket on the Internet at http://www.regulations.gov by searching for and locating Docket No. FAA-2017-0474.

(2) For more information about this AD, contact Cesar A. Gomez, Aerospace Engineer, Airframe and Mechanical Systems Branch, ANE-171, FAA, New York ACO, 1600 Stewart Avenue, Suite 410, Westbury, NY 11590; telephone 516-228-7318; fax 516-794-5531; email: Cesar.Gomez.faa.gov.

(3) For service information identified in this AD, contact Bombardier, Inc., 400 Côte-Vertu Road West, Dorval, Québec H4S 1Y9, Canada; telephone 514-855-5000; fax 514-855-7401; email thd.crj@aero.bombardier.com; Internet http://www.bombardier.com. You may view this service information at the FAA, Transport Airplane Directorate, 1601 Lind Avenue SW., Renton, WA. For information on the availability of this material at the FAA, call 425-227-1221.

Issued in Renton, Washington, on May 10, 2017.
Jeffrey E. Duven,
Manager, Transport Airplane Directorate, Aircraft Certification Service.

[FR Doc. 2017-10030 Filed 5-17-17; 8:45 am]

BILLING CODE 4910-13-P